DEPARTMENT OF ENERGY

Federal Energy Regulatory Commission

Notice of Technical Conference

September 17, 2007.

Pinnacle West Capital Corporation | Docket Nos. ER00-2268-017, ER00-2268-022, EL05-10-000, EL05-10-008.
Arizona Public Service Company | Docket Nos. ER99-4124-014, ER99-4124-018, EL05-11-000, EL05-11-007.
Pinnacle West Energy Corporation | Docket Nos. ER00-3312-015, ER00-3312-018, EL05-12-000, EL05-12-007.
APS Energy Services Company, Inc | Docket Nos. ER99-4122-017, ER99-4122-022, EL05-13-000, EL05-13-007, EL07-82-000.

Take notice that a technical conference will be held in the above-referenced proceedings on Friday, September 21, 2007 at 11 a.m. (EST), in Room 10A-07, at the offices of the Federal Energy Regulatory Commission, 888 First Street, NE., Washington, DC 20426.

The conference will address mitigation in the Phoenix Valley.

All interested parties and staff are permitted to attend the technical conference.

FERC conferences are accessible under section 508 of the Rehabilitation Act of 1973. For accessibility accommodations please send an e-mail to accessibility@ferc.gov or call toll free (866) 208-3372 (voice) or 202-502-8659 (TTY), or send a fax to 202-208-2106 with the required accommodations.

For further information please contact Marie Tansioco at (202) 502-8846 or e-mail marie.tansioco@ferc.gov.

Kimberly D. Bose,
Secretary.

[FR Doc. E7-18655 Filed 9-20-07; 8:45 am]

BILLING CODE 6717-01-P